DEPARTMENT OF HOMELAND SECURITY

Coast Guard

33 CFR Part 165

[Docket Number USCG-2024-0023]

RIN 1625-AA11

Safety Zone; Sea Otter Point, Port of Valdez, AK

AGENCY: Coast Guard, DHS.

ACTION: Final rule.

SUMMARY: The Coast Guard is amending the regulation titled Safety Zone; City of Valdez July 4th Fireworks, Port Valdez; Valdez, AK. The City of Valdez has changed the annual firework displays from July 4th to December 31st each year. It is therefore necessary to amend the CFR to reflect the correct date of the fireworks display.

DATES: rule is effective August 30, 2024.

ADDRESSES: To view documents mentioned in this preamble as being available in the docket, go to https://www.regulations.gov, type USCG-2024-0023 in the search box and click “Search.” Next, in the Document Type column, select “Supporting & Related Material.”

FOR FURTHER INFORMATION CONTACT: If you have questions about this rule, call or email LT Abigail Ferrara, Marine Safety Unit Valdez, US Coast Guard. Telephone 907-835-7209, email Abigail.C.Ferrara@uscg.mil.

SUPPLEMENTARY INFORMATION:

I. Table of Abbreviations

CFR Code of Federal Regulations

COTP Captain of the Port Prince William Sound

DHS Department of Homeland Security

FR Federal Register

NPRM Notice of proposed rulemaking

§ Section

U.S.C. United States Code

II. Background Information and Regulatory History

The Coast Guard began issuing temporary final rules establishing safety zones during the Valdez July 4th fireworks display beginning in 2014. The Coast Guard received no comments or concerns from the public when the temporary safety zones were in place. Due to the repeating nature of the event, on February 28, 2017, the Coast Guard published a notice of proposed rulemaking (NPRM) titled Safety Zone; City of Valdez July 4th Fireworks, Port Valdez; Valdez, AK (82 FR 12076). There we stated why we issued the NPRM and invited comments on our proposed regulatory action related to this fireworks display. Since then, the City of Valdez has changed the firework display from July 4th to December 31st. The Coast Guard again began issuing temporary final rules annually for the new date. Again, due to the repeating nature of the event, we are issuing this final rule to change the date and time to reflect the correct event details.

On May 21, 2024, the Coast Guard published a notice of proposed rulemaking (NPRM) titled Safety Zone; Sea Otter Point, Port of Valdez, AK (89 FR 44945). There we stated why we issued the NPRM and invited comments on our proposed regulatory action related to this fireworks display. During the comment period that ended June 21, 2024, we received one comment.

III. Legal Authority and Need for Rule

The Coast Guard is issuing this rule under authority in 46 U.S.C. 70034. The Captain of the Port Prince William Sound (COTP) has determined that it is necessary to amend the CFR to reflect the correct date of the fireworks display.

IV. Discussion of Comments, Changes, and the Rule

As noted above, we received one comment on our NPRM published May 21, 2024. The comment supported this change, stating that fireworks do not occur in Valdez on July 4th because the sky does not get dark. The commenter claimed to be the City of Valdez events coordinator who has managed the December 31st fireworks for seven years. There are no changes in the regulatory text of this rule from the proposed rule in the NPRM.

The COTP is amending the current safety zone found in 33 CFR 165.1713 to reflect the correct date of the City of Valdez's annual fireworks display. The date will change from July 4th to December 31st. The regulatory text we are amending appears at the end of this document.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on extremely limited vessel traffic in the winter months, as well as the size, location, time of day, and duration of the safety zone. Furthermore, vessels may request authorization to transit through the safety zone with the permission of the COTP, Prince William Sound, Alaska. The Coast Guard will still issue a Broadcast Notice to Mariners via VHF-FM marine channel 16 about the zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the safety zone may be small entities, for the reasons stated in section IV.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have Tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves changing the date and shortening the duration of an existing safety zone, which prohibits traffic within 200 yards of a firework display. It is categorically excluded from further review under paragraph L60(a) of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places or vessels.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. Revise § 165.1713 as follows:

§ 165.1713 Safety Zone; City of Valdez Annual Fireworks Display within the Captain of the Port, Prince William Sound Zone, Port Valdez; Valdez, AK.

(a) Regulated area. The following area is a safety zone: All waters of Port Valdez, from surface to bottom, within a 200-yard radius from a position of 61°07′22″ N and 146°21′13″ W. These coordinates are based on the 1984 World Geodetic System (WGS 84). This includes the entrance to the Valdez small boat harbor.

(b) Definitions. As used in this section, designated representative means any Coast Guard commissioned, warrant or petty officer of the U.S. Coast Guard and a Federal, State, and local officer designated by or assisting the Captain of the Port Prince William Sound (COTP) in the enforcement of the safety zone. The term “official patrol vessel” may consist of any Coast Guard, Coast Guard Auxiliary, State, or local law enforcement vessels assigned or approved by the COTP Prince William Sound.

(c) Regulations. (1) The general safety zone regulations contained in subpart C of this part, as well as the following regulations, apply.

(2) The safety zone is closed to all vessel traffic, except as may be permitted by the COTP or the designated representative during periods of enforcement.

(3) All persons and vessels shall comply with the instructions of the COTP or the designated representative. Upon being hailed by a designated representative by siren, radio, flashing light, or other means, the operator of the vessel shall proceed as directed.

(4) Anyone desiring to enter or operate within the regulated area may request permission from the COTP via VHF Channel 16 or (907) 835-7205 (Prince William Sound Vessel Traffic Center) to request permission to do so.

(5) The COTP may be aided by other Federal, State, borough, and local law enforcement officials in the enforcement of this section.

(d) Enforcement period. This section will be enforced from 7:30 p.m. until 9 p.m. on December 31st of each year, or during the same time frame on specified weather delay dates January 1st through January 5th each year.

Dated: July 24, 2024.
S.K. Rousseau,
Commander, U.S. Coast Guard, Captain of the Port Prince William Sound.

[FR Doc. 2024-16821 Filed 7-30-24; 8:45 am]

BILLING CODE 9110-04-P